DEPARTMENT OF COMMERCE

International Trade Administration

[A-570-848]

Freshwater Crawfish Tail Meat From the People's Republic of China: Notice of Rescission, in Part, of Antidumping Duty Administrative Review for the Period September 1, 2002 Through August 31, 2003

AGENCY: Import Administration, International Trade Administration, U.S. Department of Commerce.

SUMMARY: In response to timely requests from interested parties, the Department of Commerce (the Department) initiated an administrative review of the antidumping duty order on freshwater crawfish tail meat from the People's Republic of China (PRC), covering the period of September 1, 2002 through August 31, 2003. See Initiation of Antidumping and Countervailing Duty Administrative Reviews, 68 FR 60910 (October 24, 2003). Because the Crawfish Processors Alliance and its members (together with the Louisiana Department of Agriculture & Forestry and Bob Odom, Commissioner), and the Domestic Parties (collectively, the Domestic Interested Parties), have withdrawn their request for an administrative review of certain companies, and because one respondent, North Supreme Seafood, withdrew its own request for review, the Department is rescinding, in part, this review of freshwater crawfish tail meat from the PRC, in accordance with section 351.213(d)(1) of the Department's regulations.

DATES: Effective Date: May 21, 2004.

FOR FURTHER INFORMATION CONTACT: Matthew Renkey or Maureen Flannery, Office of AD/CVD Enforcement VII, Import Administration, International Trade Administration, U.S. Department of Commerce, 14th Street and Constitution Avenue, NW., Washington DC 20230; telephone: (202) 482-2312 or (202) 482-3020, respectively.

SUPPLEMENTARY INFORMATION:

Background

Based on timely requests from the Domestic Interested Parties, and from exporters Hubei Qiangjiang Houhu Cold & Processing Factory, North Supreme Seafood, Qingdao Jinyongxiang Aquatic Foods Co., Ltd., and Shouzhou Huaxiang Foodstuffs Co., Ltd., the Department initiated the administrative review of the antidumping duty order on freshwater crawfish tail meat from PRC. See Initiation of Antidumping and Countervailing Duty Administrative Reviews, 68 FR 60910 (October 24, 2003) (Initiation Notice). The following companies were included in the Initiation Notice:

China Everbright

China Kingdom Import & Export Co., Ltd.

aka China Kingdoma Import & Export Co., Ltd.

aka Zhongda Import & Export Co., Ltd.

Fujian Pelagic Fishery Group Co.

Huaiyin Foreign Trade Corporation (5)

Jiangsu Hilong International Trading Co., Ltd.

Huaiyin Foreign Trade Corporation (30)

Jiangsu Cereals, Oils, & Foodstuffs Import & Export Corp.

Hubei Qiangjiang Houhu Cold & Processing Factory

Nantong Delu Aquatic Food Co. Ltd.

Nantong Shengfa Frozen Food Co., Ltd.

Ningbo Nanlian Frozen Foods Co., Ltd.

North Supreme Seafood

Qingdao Jinyongxiang Aquatic Foods Co., Ltd.

Qingdao Rirong Foodstuff Co., Ltd.

aka Qingdao Rirong Foodstuffs

Qingdao Xiyuan Refrigerated Food Co., Ltd.

Qingdao Zhengri Seafood Co., Ltd.

aka Qingdao Zhengri Seafoods

Shanghai Ocean Flavor International Trading Co., Ltd.

Shanghai Taoen International Trading Co., Ltd.

Shanghai Yangfen International Trading Co., Ltd.

Shouzhou Huaxiang Foodstuffs Co., Ltd.

Suqian Foreign Trade Corp.

aka Suqian Foreign Trading

Weishan Fukang Foodstuffs Co., Ltd.

Weishan Zhenyu Foodstuff Co., Ltd.

Yancheng Baolong Biochemical Products Co., Ltd.

Yancheng Foreign Trade Corp.

aka Yancheng Foreign Trading

aka Yang Chen Foreign Trading

Yancheng Fuda Foods Co., Ltd.

Yancheng Haiteng Aquatic Products & Foods Co., Ltd.

Yancheng Yaou Seafoods

Yangzhou Lakebest Foods Co., Ltd.

Zhoushan Huading Seafood Co., Ltd.

On January 26, 2004, the Domestic Interested Parties submitted a timely letter withdrawing, in part, their request for a review with respect to the following exporters:

China Everbright

China Kingdom Import & Export Co., Ltd.

aka China Kingdoma Import & Export Co., Ltd.

aka Zhongda Import & Export Co., Ltd.

Fujian Pelagic Fishery Group Co.

Huaiyin Foreign Trade Corporation (5)

Jiangsu Hilong International Trading Co., Ltd.

Huaiyin Foreign Trade Corporation (30)

Jiangsu Cereals, Oils, & Foodstuffs Import & Export Corp.

Nantong Delu Aquatic Food Co. Ltd.

Ningbo Nanlian Frozen Foods Co., Ltd.

Qingdao Rirong Foodstuff Co., Ltd.

aka Qingdao Rirong Foodstuffs

Qingdao Xiyuan Refrigerated Food Co., Ltd.

Qingdao Zhengri Seafood Co., Ltd.

aka Qingdao Zhengri Seafoods

Shanghai Taoen International Trading Co., Ltd.

Shanghai Yangfen International Trading Co., Ltd.

Shouzhou Huaxiang Foodstuffs Co., Ltd.

Suqian Foreign Trade Corp.

aka Suqian Foreign Trading

Weishan Fukang Foodstuffs Co., Ltd.

Weishan Zhenyu Foodstuff Co., Ltd.

Yancheng Baolong Biochemical Products Co., Ltd.

Yancheng Foreign Trade Corp.

aka Yancheng Foreign Trading

aka Yang Chen Foreign Trading

Yancheng Fuda Foods Co., Ltd.

Yancheng Haiteng Aquatic Products & Foods Co., Ltd.

Yancheng Yaou Seafoods

Yangzhou Lakebest Foods Co., Ltd.

Zhoushan Huading Seafood Co., Ltd.

On March 16, 2004, North Supreme Seafood withdrew its own request for review.

Rescission, in Part, of the Administrative Review

Pursuant to the Department's regulations, the Department will rescind an administrative review “if a party that requested the review withdraws the request within 90 days of the date of publication of notice of initiation of the requested review.” See 19 CFR 351.213(d)(1). The Department may also extend this time limit if it decides that it is reasonable to do so. Id.

The Domestic Interested Parties filed a timely withdrawal of their requests for review of the companies named above. However, respondent Shouzhou Huaxiang Foodstuffs Co., Ltd. requested a review of its own sales. Therefore, the Department is rescinding its antidumping administrative review with respect to the companies listed above, except for Shouzhou Huaxiang Foodstuffs Co., Ltd., in accordance with section 351.213(d)(1) of the Department's regulations.

While North Supreme Seafood's withdrawal of its own request for review was not timely, according to section 351.213(d)(1) of the Department's regulations, the Department may extend this time limit if it decides that it is reasonable to do so. In this case, the Department has determined that rescinding the review is appropriate. Continuing this review would only require North Supreme Seafood, the Domestic Interested Parties and the Department to expend time and resources on a review in which the only parties that requested the review are no longer interested. The Department has not released supplemental questionnaires with respect to North Supreme Seafood, nor conducted verification. Therefore, the Department does not believe the administrative review has proceeded to a point at which it would be “unreasonable” to rescind the review. Furthermore, there are no overarching policy issues that would warrant continuing with this review. The Department has therefore determined that it is reasonable to extend the 90-day time limit, and is rescinding its antidumping administrative review with respect to North Supreme Seafood in accordance with § 351.213(d)(1) of the Department's regulations. The Department will issue appropriate assessment instructions to U.S. Customs for all of these companies within 15 days of publication of this notice.

Based on these rescissions, the administrative review of the antidumping duty order on freshwater crawfish tail meat from the PRC, for the period of September 1, 2002 through August 31, 2003, now covers Qingdao Jinyongxiang Aquatic Foods Co., Ltd., Shouzhou Huaxiang Foodstuffs Co., Ltd., Hubei Qiangjiang Houhu Cold & Processing Factory, Nantong Shengfa Frozen Food Co., Ltd., and Shanghai Ocean Flavor International Trading Co., Ltd.

This notice serves as a reminder to parties subject to administrative protective order (APO) of their responsibility concerning the disposition of proprietary information disclosed under APO in accordance with 19 CFR 351.305(a)(3). Timely written notification of the return or destruction of APO materials or conversion to judicial protective order is hereby requested. Failure to comply with the regulations and terms of an APO is a sanctionable violation.

This determination and notice are issued and published in accordance with sections 751(a)(1) and 777(i)(1) of the Act and 19 CFR 351.213(d)(4).

Dated: May 13, 2004.
James J. Jochum,
Assistant Secretary for Import Administration.

[FR Doc. 04-11573 Filed 5-20-04; 8:45 am]

BILLING CODE 3510-DS-P